DEPARTMENT OF HEALTH AND HUMAN SERVICES

Substance Abuse and Mental Health Services Administration

Center for Substance Abuse Prevention; Notice of Meeting

Pursuant to Public Law 92-463, notice is hereby given of the meeting of the Center for Substance Abuse Prevention (CSAP) National Advisory Council in May 2001.

The agenda of the open portion of the meeting will include an update on CSAP's budget, recommendations by Council on the Center's programs, and discussions of the Faith-based Initiative, the Data Coordinating Center, administrative matters and announcements. Public comments are welcome. If anyone needs special accommodations for persons with disabilities, please notify the contact listed below.

The agenda will include the review, discussion, and evaluation of individual grant applications. Therefore a portion of the meeting will be closed to the public as determined by the Administrator, SAMHSA, in accordance with Title 5 U.S.C. 552b(c)(4) and (6) and 5 U.S.C. App.2, 10(d).

A summary of this meeting and roster of committee members may be obtained from Yuth Nimit, Ph.D., Executive Secretary, Rockwall II building, Suite 901, 5600 Fishers Lane, Rockville, Maryland 20857, Telephone: (301) 443-8455.

Substantive program information may be obtained from the contact person listed below.

Committee Name: Center for Substance Abuse Prevention National Advisory Council.

Meeting Date: Thursday, May 24, 2001.

Place: Gaithersburg Marriott Washingtonian Center (at Rio), 9751 Washingtonian Boulevard, Gaithersburg, Maryland 20878.

Closed: May 24, 2001, 8:30 a.m. to 11:30 a.m.

Open: May 24, 2001, 1 p.m. to 4:30 p.m.

Contact: Yuth Nimit, Ph.D., 5515 Security Lane, Rockwall II Building, Suite 901, Rockville, Maryland 20852, Telephone: (301) 443-8455.

This notice is being published less than 15 days prior to the meeting due to the urgent need to meet timing limitations imposed by the review and funding cycle.

Dated: May 9, 2001.
Toian Vaughn,
Executive Secretary/Committee Management Officer, Substance Abuse and Mental Health Services Administration.

[FR Doc. 01-12098 Filed 5-14-01; 8:45 am]

BILLING CODE 4162-20-P